DEPARTMENT OF COMMERCE

National Oceanic and Atmospheric Administration

[Docket No. 2307014-0168; RTID 0648-XV193]

Request for Information on Equitable Delivery of Climate Services; Comment Period Extension

AGENCY: National Oceanic and Atmospheric Administration, U.S. Department of Commerce.

ACTION: Request for information; comment period extension.

SUMMARY: On July 21, 2023, The U.S. Department of Commerce (Department), via the National Oceanic and Atmospheric Administration (NOAA), announced a Request for Information (RFI) on how to enhance NOAA's delivery of climate data, information, science, and tools (“climate services”) and ensure that this delivery is equitable and accounting for the needs and priorities of a diverse set of user communities as they engage in climate preparedness, adaptation, and resilience planning. Building on the work that NOAA is already doing to prepare communities for increasing climate impacts, the input from this RFI will be used to create an Action Plan that will inform more equitable and inclusive design, production, and delivery of climate services for users of all disciplines and backgrounds. Written comments were due by September 21, 2023. Under the unique circumstances of the timing of the publication of the Federal Register notice, NOAA has decided to extend the public comment period by 30 days, to October 21, 2023.

DATES: The public comment period for this action, published on July 20, 2023 (88 FR 46773), has been extended from September 21, 2023 to October 21, 2023. Written comments and information must be received no later than October 21, 2023.

NOAA will host additional virtual public listening sessions during the month of October for participants to provide comments. See ADDRESSES below for more information on dates, times, and registration.

ADDRESSES: You may submit comments on this document by any of the following methods:

• Email Submission: Interested individuals and organizations should submit written or recorded comments by email to climate.input@noaa.gov. If submitting via email, include the title of this RFI, “Request for Information on Equitable Delivery of Climate Services” in the subject line of the email. Attachments will be accepted in plain text, Microsoft Word, or Adobe PDF, or recorded formats only, not to exceed a file size of 25 MB. If comments are submitted via recording, they must be in .mpg, mpeg, or .wav file formats. All comments submitted via email in recorded format will be transcribed.

• Electronic Submission: Comments may also be submitted in writing only via https://www.regulations.gov. Go to https://www.regulations.gov and enter the title of this action, “Request for Information on Equitable Delivery of Climate Services” in the Search box. Click the “Comment” icon, complete the required fields, and enter or attach your comments. Enter “N/A” in required fields if you wish to remain anonymous.

• Mail: Submit written comments to Ella Clarke, Room 58010/HCHB, 1401 Constitution Ave. NW, Washington, DC 20230. Include the title of this RFI, “Request for Information on Equitable Delivery of Climate Services” in the written response.

• Public Listening Sessions: Provide oral comments during virtual public listening sessions, as described under DATES. Registration details and additional information about how to participate in these public listening sessions is available at https://www.eventbrite.com/cc/equitable-climate-service-delivery-2404789.

Instructions: Response to this RFI is voluntary. Respondents need not reply to all questions listed. Each individual or institution is requested to submit only one response. All comments received are part of the public record and may be posted, without change, on NOAA's website at https://www.noaa.gov and on https://www.regulations.gov. Commenters should include the name of the person and/or organization filing the comment. All identifying information (e.g., name, email address) submitted voluntarily by the sender will be publicly accessible. NOAA, therefore, requests that no business proprietary information, copyrighted information, or sensitive personally identifiable information be submitted in response to this RFI. Comments will be accepted in English and Spanish. Comments submitted in Spanish will be translated to English for public posting.

FOR FURTHER INFORMATION CONTACT: Ella Clarke, Office of the Assistant Secretary for Oceans and Atmosphere, National Oceanic and Atmospheric Administration, (771) 216-1352; ella.clarke@noaa.gov.

SUPPLEMENTARY INFORMATION: On July 20, 2023, NOAA announced its Request for Information on Equitable Delivery of Climate Services to gather feedback on how to enhance the Agency's delivery of climate services and ensure that this delivery is equitable and accounting for the needs and priorities of a diverse set of user communities. During this time, NOAA hosted listening sessions for interested parties to provide comments in real time. NOAA received feedback from multiple sources on the challenging timing of listening sessions and the bulk of the comment period taking place during the summer months, which made it harder for a broad swath of respondents to provide substantive comments. In response to this feedback and to ensure increased access and ability to respond to the RFI, NOAA has decided to extend the comment period by 30 days, to October 21, 2023, and hold two additional public listening sessions during this time. NOAA does not anticipate that the comment period extension will delay the intended Action Plan release. NOAA refers the reader to the July 20, 2023 Federal Register notice (88 FR 46773) for background information concerning the Request for Information on Equitable Delivery of Climate Services. For additional information, please visit: https://www.noaa.gov/stories/noaa-seeks-public-comment-to-inform-more-equitable-climate-service-delivery.

Jainey Kumar Bavishi,
Assistant Secretary for Oceans and Atmosphere and Deputy Administrator, National Oceanic and Atmospheric Administration.

[FR Doc. 2023-20145 Filed 9-15-23; 8:45 am]

BILLING CODE 3510-12-P